DEPARTMENT OF COMMERCE

National Oceanic and Atmospheric Administration

50 CFR Part 679

[Docket No. 0910131362-0087-02]

RIN 0648-XZ38

Fisheries of the Exclusive Economic Zone Off Alaska; Pollock in Statistical Area 630 in the Gulf of Alaska

AGENCY: National Marine Fisheries Service (NMFS), National Oceanic and Atmospheric Administration (NOAA), Commerce.

ACTION: Inseason adjustment; request for comments.

SUMMARY: NMFS issues an inseason adjustment prohibiting directed fishing for pollock in Statistical Area 630 of the Gulf of Alaska (GOA) 36 hours after opening directed fishing for pollock, effective 2400 hrs, Alaska local time (A.l.t.), October 2, 2010. This adjustment is necessary to manage the pollock total allowable catch limit in Statistical Area 630 of the GOA.

DATES: Effective 2400 hrs, Alaska local time (A.l.t.), October 2, 2010, through 2400 hrs, A.l.t., December 31, 2010. Comments must be received at the following address no later than 4:30 p.m., A.l.t., October 18, 2010.

ADDRESSES: Send comments to Sue Salveson, Assistant Regional Administrator, Sustainable Fisheries Division, Alaska Region, NMFS, Attn: Ellen Sebastian. You may submit comments, identified by RIN 0648-XZ38, by any one of the following methods:

• Electronic Submissions: Submit all electronic public comments via the Federal eRulemaking Portal at http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comments will generally be posted without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2010 total allowable catch (TAC) of pollock in Statistical Area 630 of the GOA is 19,118 metric tons (mt) as established by the final 2010 and 2011 harvest specifications for groundfish of the GOA (75 FR 11749, March 12, 2010).

As of September 29, 2010, approximately 5,700 mt of pollock remain in the 2010 TAC for pollock in Statistical Area 630. The D season allowance of the pollock TAC in Statistical Area 630 is 5,912 mt for the period beginning October 1, 2010 through November 1, 2010. Section 679.23(b) specifies that the time of all openings and closures of fishing seasons other than the beginning and end of the calendar fishing year is 1200 hrs, A.l.t. Current information shows the catching capacity of vessels catching pollock in Statistical Area 630 of the GOA is in excess of 4,000 mt per day. The Administrator, Alaska Region, (Regional Administrator) has determined that the pollock TAC could be exceeded if a 48-hour fishery were allowed to occur. NMFS intends that the TAC not be exceeded and, therefore, will not allow a 48-hour directed fishery. NMFS, in accordance with § 679.25(a)(1)(i), is issuing an inseason adjustment prohibiting directed fishing for pollock in Statistical Area 630 of the GOA by closing the fishery at 2400 hrs, A.l.t., October 2, 2010. This action has the effect of opening the fishery for 36 hours. NMFS is taking this action to allow a controlled fishery to occur, thereby preventing the overharvest of the pollock TAC. In accordance with § 679.25(a)(2)(iii), NMFS has determined that prohibiting directed fishing at 2400 hrs, A.l.t., October 2, 2010, after a 36 hour opening is the least restrictive management adjustment to achieve the pollock TAC and will allow other fisheries to continue in noncritical areas and time periods. The Regional Administrator considered the following factors in reaching this decision: (1) The current catch of pollock in Statistical Area 630 of the GOA and, (2) the harvest capacity and stated intent on future harvesting patterns of vessels in participating in this fishery.

After the effective date of this closure the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of pollock directed fishing in Statistical Area 630 of the GOA. NMFS was unable to publish a notice providing time for public comment because the most recent, relevant data only became available as of September, 29, 2010. NMFS will be accepting comments after the effective date of this closure (See DATES).

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: September 30, 2010.
Carrie Selberg,
Acting Director,
Office of Sustainable Fisheries, National Marine Fisheries Service.

[FR Doc. 2010-25162 Filed 10-1-10; 4:15 pm]

BILLING CODE 3510-22-P